INTERNATIONAL TRADE COMMISSION

[Investigation No. 337-TA-871]

Investigations: Terminations, Modifications and Rulings: Certain Wireless Communications Base Stations and Components Thereof

AGENCY: U.S. International Trade Commission.

ACTION: Notice.

SUMMARY: Notice is hereby given that the U.S. International Trade Commission has determined not to review an initial determination (“ID”) (Order No. 35) by the presiding administrative law judge (“ALJ”) terminating the investigation in its entirety based on withdrawal of the complaint.

FOR FURTHER INFORMATION CONTACT: Clark S. Cheney, Office of the General Counsel, U.S. International Trade Commission, 500 E Street SW., Washington, DC 20436, telephone 202-205-2661. Copies of non-confidential documents filed in connection with this investigation are or will be available for inspection during official business hours (8:45 a.m. to 5:15 p.m.) in the Office of the Secretary, U.S. International Trade Commission, 500 E Street SW., Washington, DC 20436, telephone 202-205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on 202-205-1810.

SUPPLEMENTARY INFORMATION: The Commission instituted this investigation on March 1, 2013, based on a complaint filed by Adaptix, Inc., of Carrollton, Texas (“Adaptix”). 78 FR 13895 (March 1, 2013). The complaint alleged violations of section 337 of the Tariff Act of 1930, as amended (19 U.S.C. 1337), in the importation into the United States, the sale for importation, and the sale within the United States after importation of certain wireless communications base stations and components thereof by reason of infringement of U.S. Patent No. 6,870,808. The notice of investigation named Telefonaktiebolaget LM Ericsson, of Stockholm, Sweden, and Ericsson Inc., of Plano, Texas (collectively, “Ericsson”), as respondents.

On December 3, 2013, Adaptix filed a motion to terminate the investigation in its entirety based on withdrawal of the complaint. Ericsson did not oppose the motion, and the Commission investigative attorney supported the motion.

On December 12, 2013, the ALJ issued an initial determination (Order No. 35) granting the motion. The ALJ noted that Adaptix certified that there are no agreements between the parties concerning the subject matter of the investigation and found that there are no extraordinary circumstances that should prevent Adaptix from withdrawing the complaint. The ALJ also found that terminating the investigation would conserve public and private resources. No petitions for review of the ID have been filed.

The Commission has determined not to review the ID.

The authority for the Commission's determination is contained in section 337 of the Tariff Act of 1930, as amended (19 U.S.C. 1337), and in Part 210 of the Commission's Rules of Practice and Procedure (19 CFR part 210).

By order of the Commission.
Dated: January 6, 2014.
Lisa R. Barton,
Acting Secretary to the Commission.

[FR Doc. 2014-00208 Filed 1-9-14; 8:45 am]

BILLING CODE 7020-02-P